DEPARTMENT OF HEALTH AND HUMAN SERVICES

Health Resources and Services Administration

Children's Hospitals Graduate Medical Education (CHGME) Program Conference

On June 19, 2000, the Health Resources and Services Administration (HRSA) published a notice in the Federal Register announcing the Children's Hospitals Graduate Medical Education (CHGME) Program (65 FR 37985). Interested parties are invited to attend a briefing conference on July 7, 2000, from 1 p.m. to 3 p.m. EDT in conference room D in the Parklawn Building, 5600 Fishers Lane, Rockville, Maryland 20857. Parties may also participate in the conference by telephone. To do so, dial: 800-545-4387 or 700-991-1738 (for Federal Government employees), then enter the access code ID# 28353. Telephone participants should call by 12:45 p.m.

The conference is to provide information on the topics contained in the CHGME notice: proposed eligibility criteria, funding factors and methodology, and performance measures. It will include a question and answer period.

For additional information call or write to: F. Lawrence Clare, telephone: (301) 443-7334; Division of Medicine and Dentistry, Bureau of Health Professions, Room 9-A-27, Parklawn Building, 5600 Fishers Lane, Rockville, Maryland 20857; lclare@hrsa.gov.

Dated: June 19, 2000.
Claude Earl Fox,
Administrator.

[FR Doc. 00-15901 Filed 6-22-00; 8:45 am]

BILLING CODE 4160-15-P